FEDERAL COMMUNICATIONS COMMISSION

Notice of Public Information Collection(s) being Reviewed by the Federal Communications Commission, Comments Requested

January 11, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 20, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0568.

Title: Commercial Leased Access Rates, Terms and Conditions.

Form Number: None.

Type of Review: Extension of a currently approved collection.

Respondents: Business and other for-profit entities.

Number of Respondents: Rule 76.970, 6,270; Rule 76.970(h), 6,270; Rule 76.971, 6,270; Rule 76.975(b), 30; Rule 76.975(c), 30, respectively.

Estimated Time Per Response: 4 hours; 10 hours; 1 hour; 4 hours; and 2 minutes, respectively.

Frequency of Response: Recordkeeping and Third Party Disclosure requirements.

Total Annual Burden: 94,171 hours.

Total Annual Costs: $74,000.

Needs and Uses: The information is used by prospective leased access programmers and the Commission to verify rate calculations for leased access channels and to eliminate uncertainty in negotiations for leased commercial access. The Commission's leased access requirements are designed to promote diversity of programming and competition in programming delivery as required by Section 612 of the Cable Television Consumer Protection and Competition Act of 1992.

OMB Control Number: 3060-0410.

Title: Forecast of Investment Usage Report and Actual Usage of Investment Report.

Form Number: FCC 495A and FCC 495B.

Type of Review: Extension.

Respondents: Business or other for profit.

Number of Respondents: 300.

Estimated Time Per Response: 40 hours.

Total Annual Burden: 12000 Hours.

Estimated Annual Reporting and Recordkeeping Cost Burden: $0.

Frequency of Response: Annually.

Needs and Uses: The Forecast of Investment Usage and Actual Usage of Investment Reports are needed to detect and correct forecast errors that could lead to significant misallocation of network plant between regulated and nonregulated activities. FCC's purpose is to protect the regulated ratepayer from subsidizing the nonregulated activities of rate regulated telephone companies.

OMB Control Number: 3060-0056.

Title: Registration of Telephone and Data Terminal Equipment.

Form No.: FCC Form 730.

Type of Review: Extension.

Respondents: Business or other for profit.

Number of Respondents: 2400.

Estimated Time Per Response: 24 hours.

Total Annual Burden: 57,600 hours.

Estimated Annual Reporting and Recordkeeping Cost Burden: $2,700,000.

Frequency of Response: On occasion.

Needs and Uses: FCC Form 730 is used by equipment manufacturers to register telephone and data terminal equipment. Part 68 contains information collection requirements associated with the filing requirement. The information is used by the Commission staff to identify improperly designed equipment that may harm the nation's telephone network.

OMB Control Number: 3060-0755.

Title: Infrastructure Sharing—CC Docket No. 96-237.

Form Number: N/A.

Type of Review: Extension.

Respondents: Business or other for profit.

Number of Respondents: 1425.

Estimated Time Per Response: 1.63 hours.

Total Annual burden: 2325 hours.

Estimated Annual Reporting and Recordkeeping Cost Burden: $0.

Frequency of Response: On occasion; Third party disclosure.

Needs and Uses: CC Docket No. 96-237 implemented section 259 of the Communications Act, as amended. Section 259 requires incumbent local exchange carriers (LECs) to file any arrangements showing the conditions under which they share infrastructure per section 259. Section 259 also requires incumbent LECs to provide information on deployments of new services and equipment to qualifying carriers. The Commission also requires incumbent LECs to provide 60 days notice prior to terminating section 259 agreements.

OMB Control Number: 3060-0738.

Title: Implementation of the Telecommunications Act of 1996: Electronic Publishing, and Alarm Monitoring Services, CC Docket No. 96-152.

Form Number: N/A.

Type of Review: Extension.

Respondents: Business or other for profit.

Number of Respondents: 7.

Estimated Time Per Response: 3000 hours.

Total Annual Burden: 21,000 hours.

Estimated Annual Reporting and Recordkeeping Cost Burden: $0.

Frequency of Response: Third party disclosure.

Needs and Uses: The Commission imposes this third-party disclosure requirement on the BOCs in order to implement the nondiscrimination requirement of section 274(c)(2)(A) of the Communications Act, as amended. The Commission requires that to the extent a BOC refers a customer to a separated affiliate, electronic publishing joint venture of affiliate during the normal course of its telemarketing operations, it must refer that customer to all unaffiliated electronic publishers requesting the referral service. In particular, the BOC must provide the customer the names of all unaffiliated electronic publishers, in random order.

OMB Control Number: 3060-0759.

Title: Implementation of Section 273 of the Communications Act of 1934, as amended by the Telecommunications Act of 1996.

Form Number: N/A.

Type of Review: Extension.

Respondents: Business or other for profit.

Number of Respondents: 1425.

Estimated Time Per Response: 4.42 hours (avg.).

Total Annual Burden: 6300 hours.

Estimated Annual Reporting and Recordkeeping Cost Burden: $231,000.

Frequency of Response: On occasion; recordkeeping; third party disclosure.

Needs and Uses: In CC Docket No. 96-254, the Commission issued a NPRM to initiate a proceeding to permit the BOCs to manufacture telecommunications and customer premises equipment on a competitive basis, pursuant to section 273 of the Communications Act of 1934, as amended. Under section 273, a BOC may provide telecommunications equipment and may manufacture both telecommunications equipment and CPE through a separate affiliate once the Commission authorizes the BOC to provide in-region, interLATA services pursuant to section 271. The Commission sought comment on procedures governing collaboration, research and royalty agreements, reporting of protocols and technical information, and disclosure of other information on network planning and design. The Commission sought comment on proposed measures to implement section 273.

OMB Control Number: 3060-0806.

Title: Universal Service—Schools and Libraries Universal Service Program.

Form Number: FCC Form 470 and FCC Form 471.

Type of Review: Extension.

Respondents: Business or other for profit; not for profit institutions; state, local or tribal government.

Number of Respondents: 60,000.

Estimated time Per Response: 7.3 hours (avg.).

Total Annual burden: 440,000 hours.

Estimated Annual Reporting and Recordkeeping Cost Burden: $0.

Frequency of Response: On occasion; recordkeeping; third party disclosure.

Needs and Uses: The Commission adopted rules providing support for all telecommunications services, Internet access, and internal connections for all eligible schools and libraries. To participate in the program, schools and libraries must submit a description of the services desired to the Administrator via FCC form 470. FCC Form 471 is submitted by schools and libraries that have ordered telecommunications services, Internet access, and internal connections.

OMB Control Number: 3060-0775.

Title: Separate Affiliate Requirement for Independent Local Exchange Carrier (LEC) Provision of International Interexchange Services—47 CFR 64.1901-64.1903.

Form Number: N/A.

Type of Review: Extension.

Respondents: Business or other for profit.

Number of Respondents: 10.

Estimated Time Per Response: 6056 hours (avg).

Total Annual Burden: 60,560 hours.

Estimated Annual Reporting and Recordkeeping Cost Burden: $1,003,000.

Frequency of Response: Recordkeeping.

Needs and Uses: Independent LECs wishing to offer international, interexchange services must maintain books of account separate from such LECs' local exchange and other activities. This regulation does not require that the affiliate maintain books of account that comply with the Commission's Part 32 rules; rather, it refers to the fact that as a separate legal entity, the international, interexchange affiliate must maintain its own books of account in the ordinary course of its business. The recordkeeping requirement is used by the Commission to ensure that independent LECs providing international, interexchange services through a separate affiliate are in compliance with the Communications Act, as amended and with Commission policies and regulations.

OMB Control Number: 3060-0710.

Title: Policy and Rules Concerning the Implementation of the Local Competition Provisions in the Telecommunications Act of 1996—CC Docket No. 96-98.

Form Number: N/A.

Type of Review: Extension.

Respondents: Business or other for profit.

Number of Respondents: 12,250.

Estimated Time Per Response: 124.86 hours (avg.).

Total Annual Burden: 1,529,620 hours.

Estimated Annual Reporting and Recordkeeping Cost Burden: $937,000,000.

Frequency of Response: On occasion; Recordkeeping; Third party disclosure.

Needs and Uses: In CC Docket No. 96-98, the Commission adopted rules and regulations to implement parts of sections 251 and 252 that effect local competition. Specifically, the Order requires incumbent local exchange carriers to offer interconnection, unbundled network elements, transport and termination, and wholesale rates for retail services to new entrants; that incumbent LECs price such services at rates that are cost-based and just and reasonable; and that they provide access to rights-of-way as well as establish reciprocal compensation arrangements for the transport and termination of telecommunications traffic. All the requirements are used to ensure that local exchange carriers comply with their obligations under the Communications Act of 1934, as amended.

OMB Control Number: 3060-0762.

Title: Section 274(b)(3)(B)—Written Contracts Filed with the Commission and Made Publicly Available.

Form Number: N/A.

Type of Review: Extension.

Respondents: Business or other for profit.

Number of Respondents: 4200.

Estimated Time Per Response: .75 hours (avg.).

Total Annual Burden: 3150 hours.

Estimated Annual Reporting and Recordkeeping Cost Burden: $0.

Frequency of Response: On occasion; third party disclosure.

Needs and Uses: Section 274(b)(3)(B) of the Communications Act of 1934, as amended, requires a separated affiliate or electronic publishing joint venture established pursuant to section 274(a) and its affiliated BOC “to carry out transactions * * * pursuant to written contracts or tariffs that are filed with the Commission and made publicly available.” The Commission issued a FNPRM in CC Docket No. 96-152 which sought comment on the meaning of certain terms in section 274 of the Telecommunications Act of 1996 which governs BOCs provision of electronic publishing services and on several collections.

Federal Communications Commission.
Magalie Roman Salas,
Secretary.

[FR Doc. 00-1333 Filed 1-19-00; 8:45 am]

BILLING CODE 6712-01-U